DEPARTMENT OF COMMERCE

Foreign-Trade Zones Board

[Order No. 1151]

Grant of Authority for Subzone Status; Zale Corporation (Jewelry and Accessories), Irving, TX

Pursuant to its authority under the Foreign-Trade Zones Act of June 18, 1934, as amended (19 U.S.C., 81a-81u), the Foreign-Trade Zones Board (the Board) adopts the following Order:

Whereas, the Foreign-Trade Zones Act provides for “the * * * establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Dallas/Fort Worth International Airport Board, grantee of Foreign-Trade Zone 39, has made application to the Board for authority to establish special-purpose subzone status at the distribution, processing and repair facilities (jewelry and accessories) of Zale Corporation, located in Irving, Texas (FTZ Docket 11-2000, filed 3/21/00);

Whereas, notice inviting public comment has been given in the Federal Register (65 FR 16562, 3/29/00); and,

Whereas, the Board adopts the findings and recommendations of the examiner's report and finds that the requirements of the FTZ Act and Board's regulations are satisfied, and that approval of the application is in the public interest;

Now, Therefore, the Board hereby grants authority for subzone status at the facilities of Zale Corporation, located in Irving, Texas (Subzone 39F), at the location described in the application, and subject to the FTZ Act and the Board's regulations, including § 400.28. The scope of authority does not include activity conducted under FTZ procedures that would result in a change in tariff classification.

Signed at Washington, DC, this 5th day of April 2001.
Timothy J. Hauser,
Acting Under Secretary for International Trade, Alternate Chairman, Foreign-Trade Zones Board.

[FR Doc. 01-9855 Filed 4-19-01; 8:45 am]

BILLING CODE 3510-DS-P